DEPARTMENT OF ENERGY

Federal Energy Regulatory Commission

Combined Notice of Filings #1

Friday, August 18, 2006.

Take notice that the Commission received the following electric rate filings.

Docket Numbers: ER02-783-005, ER02-852-005, ER02-855-005, ER01-2262-007, ER03-438-005 and ER05-723-004.

Applicants: EPCOR Merchant and Capital (US) Inc., EPCOR Power Development, Inc., EPDC, Inc., Frederickson Power L.P., Manchief Power Company, LLC and EPCOR Power (Castleton) LLC.

Description: EPCOR Merchant and Capital (US) Inc et al submits a notice of change in status.

Filed Date: 08/14/2006.

Accession Number: 20060816-0060.

Comment Date: 5 p.m. Eastern Time on Tuesday, September 5, 2006.

Docket Numbers: ER06-1362-000.

Applicants: Southwest Power Pool, Inc.

Description: Southwest Power Pool Inc proposes to revise its regional Open Access Transmission Tariff.

Filed Date: 08/14/2006.

Accession Number: 20060816-0062.

Comment Date: 5 pm Eastern Time on Tuesday, September 5, 2006.

Docket Numbers: ER06-1363-000.

Applicants: NorthWestern Corporation.

Description: NorthWestern Corp submits a notice of cancellation of Service Agreement 325 under its FERC Electric Tariff, Sixth Revised Volume 6 with Montana Megawatts I, LLC.

Filed Date: 08/14/2006.

Accession Number: 20060816-0087.

Comment Date: 5 p.m. Eastern Time on Tuesday, September 5, 2006.

Docket Numbers: ER06-13h64-000.

Applicants: International Paper Company.

Description: International Paper Co submits a petition for an order authorizing IPC to sell electric power and related services at market-based rates and granting IPC certain waivers and blanket approvals.

Filed Date: 08/14/2006.

Accession Number: 20060816-0061.

Comment Date: 5 p.m. Eastern Time on Tuesday, September 5, 2006.

Docket Numbers: ER06-1365-000.

Applicants: ISO New England Inc.

Description: ISO New England Inc submits its Capital Project Report for the quarter ending 6/30/06 and the schedule of the unamortized costs of the ISO funded capital expenditures.

Filed Date: 08/14/2006.

Accession Number: 20060816-0084.

Comment Date: 5 p.m. Eastern Time on Tuesday, September 5, 2006.

Docket Numbers: ER06-783-002.

Applicants: New York Independent System Oper., Inc.

Description: New York Independent System Operator Inc requests leave to file its Compliance Filing one day out-of-time and submits revisions to its Open Access Transmission Tariff etc.

Filed Date: 08/14/2006.

Accession Number: 20060816-0059.

Comment Date: 5 p.m. Eastern Time on Tuesday, September 5, 2006.

Docket Numbers: ER06-826-003.

Applicants: PJM Interconnection, LLC.

Description: PJM Interconnection, LLC submits Substitute Third Revised Sheet 448 et al to FERC Electric Tariff, Sixth Revised Volume 1 in compliance with FERC's order of 7/14/06.

Filed Date: 08/14/2006.

Accession Number: 20060816-0085.

Comment Date: 5 p.m. Eastern Time on Tuesday, September 5, 2006.

Docket Numbers: ER99-2948-009, ER00-2918-008, ER00-2917-008, ER05-261-005, ER01-558-007, ER01-559-007, ER01-557-007, ER01-560-007, ER01-556-007, ER01-1654-010, ER01-2641-008, ER02-2567-008, ER05-728-005, ER01-1949-008, ER04-485.005.

Applicants: Baltimore Gas & Electric Company, Constellation Power Source Generation, Inc., Calvert Cliffs Nuclear Power Plant, Inc.; Constellation Energy Commodities Group, Inc.; Holland Energy, LLC; Wolf Hills Energy, LLC; University Park Energy, LLC; Big Sand Peaker Plant, LLC; Handsome Lake Energy, LLC; Nine Mile Point Nuclear Station, LLC; High Desert Power Project, LLC; Constellation NewEnergy, Inc.; Constellation Energy Commodities Group Maine, LLC; Power Provider LLC; R.E. Ginna Nuclear Power Plant, LLC.

Description: Constellation MBR Entities submit their joint triennial market power update.

Filed Date: 08/14/2006.

Accession Number: 20060818-0078.

Comment Date: 5 p.m. Eastern Time on Tuesday, September 5, 2006.

Any person desiring to intervene or to protest in any of the above proceedings must file in accordance with Rules 211 and 214 of the Commission's Rules of Practice and Procedure (18 CFR 385.211 and § 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Magalie R. Salas,
Secretary.

[FR Doc. E6-14131 Filed 8-24-06; 8:45 am]

BILLING CODE 6717-01-P